DEPARTMENT OF VETERANS AFFAIRS

Cancellation of Meeting; National Research Advisory Council; Notice of Meeting Cancellation

AGENCY: Department of Veterans Affairs.

The Department of Veterans Affairs gives notice under the Federal Advisory Committee Act, 5 U.S.C., App. 2, that a meeting of the National Research Advisory Council, previously scheduled to be held in Room 730, on December 9, 2015, at the Department of Veterans Affairs, 810 Vermont Avenue NW., Washington, DC, is hereby postponed. The Notice of Meeting appeared in the Federal Register on October 30, 2015, on page May 22, 2015, on page 66979. The meeting will be rescheduled.

If you have any questions, please contact Pauline Cilladi-Rehrer, Designated Federal Officer, at Pauline.Cilladi-Rehrer@va.gov, or on (202) 443-5607.

Dated: November 5, 2015.
Rebecca Schiller,
Committee Management Officer.

[FR Doc. 2015-28577 Filed 11-9-15; 8:45 am]

BILLING CODE 8320-01-P